DEPARTMENT OF TRANSPORTATION

Federal Aviation Administration

Notice of Release From Quitclaim Deed and Grant Assurance Obligations at Reno Stead Airport, Reno, Washoe County, Nevada

AGENCY: Federal Aviation Administration, DOT.

ACTION: Notice of a land release.

SUMMARY: The Federal Aviation Administration (FAA) proposes to rule and invites public comment on the application for a land release of approximately 0.58 acres of airport property and associated 15-foot-wide access easement owned by Reno Stead Airport, Reno, Washoe County, Nevada from the airport use provisions of the Grant Agreement Assurances since the land is not needed for airport purposes. The subject property is located approximately 0.5 miles from the Reno Stead Airport and has no identified airport-related purpose. The airport will be compensated for the fair market value of the released property. Reuse of the property will not interfere with the airport or its operation, thereby protecting the interests of civil aviation.

DATES: Comments must be received on or before January 17, 2017.

FOR FURTHER INFORMATION CONTACT: Comments on the request may be mailed or delivered to the FAA at the following address: Mike N. Williams, Manager, Airports District Office, Federal Register Comment, Federal Aviation Administration, Phoenix Airports District Office, 3800 N. Central Avenue, Suite 1025, Phoenix, Arizona 85012. In addition, one copy of the comment submitted to the FAA must be mailed or delivered to Ms. Lissa Butterfield, Senior Airport Planner, Reno-Tahoe Airport Authority, P.O. Box 12490, Reno, NV 89510.

SUPPLEMENTARY INFORMATION: In accordance with the Wendell H. Ford Aviation Investment and Reform Act for the 21st Century (AIR 21), Public Law 106-181 (Apr. 5, 2000; 114 Stat. 61), this notice must be published in the Federal Register 30 days before the DOT Secretary may waive any condition imposed on a federally obligated airport by surplus property conveyance deeds or grant agreements.

The following is a brief overview of the request:

The Reno-Tahoe Airport Authority (RTAA) requested a release from the provisions of the Grant Agreement Assurances to permit the disposal of approximately 0.58 acres of land near Reno Stead Airport, Reno, Washoe County, Nevada to permit Artisan Communities to incorporate the 0.58-acre property into their approximately 47-acre community development. The property is located in an area zoned residential and the release will eliminate RTAA's future liability for the property since the property cannot be redeveloped for a commercial or airport purpose. The airport will be compensated for the fair market value of the released property. The RTAA supports disposal of the parcel, which has no identified airport-related purpose or future use, especially since it is 0.5 miles from the airport. Reuse of the property will not interfere with the airport or its operation, thereby protecting the interests of civil aviation. Based on the benefits of fair compensation in exchange for the land, the interests of civil aviation will be properly served.

Issued in Hawthorne, California, on December 8, 2016.
Brian Q. Armstrong,
Manager, Safety and Standards Branch, Airports Division, Western-Pacific Region.

[FR Doc. 2016-30210 Filed 12-15-16; 8:45 am]

BILLING CODE 4910-13-P